DEPARTMENT OF TRANSPORTATION

Federal Aviation Administration

14 CFR Parts 71

[Docket FAA No. FAA-2013-0147; Airspace Docket No. 13-AWP-1]

Establishment of Class E Airspace; Tuba City, AZ

AGENCY: Federal Aviation Administration (FAA), DOT.

ACTION: Final rule; correction.

SUMMARY: This action corrects a final rule published in the Federal Register May 29, 2013 that establishes Class E en route airspace at the Tuba City VHF Omni-Directional Radio Range Tactical Air Navigational Aid (VORTAC), Tuba City, AZ. In that rule, an error was made in the legal description for Tuba City, identifying the region as ANM instead of AWP.

DATES: Effective Date: 0901 UTC, August 22, 2013. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

The FAA published a final rule in the Federal Register establishing Class E en route airspace at the Tuba City VORTAC, Tuba City, AZ (78 FR 32086, May 29, 2013). In the regulatory text, the region identifier ANM was incorrect, and is now corrected to AWP.

Correction to Final Rule

Accordingly, pursuant to the authority delegated to me, the legal description as published in the Federal Register on May 29, 2013 (78 FR 32086), Airspace Docket No. 13-AWP-1, FR Doc. 2013-12623, is corrected as follows:

§ 71.1 [Amended]

On page 32087, column 1, line 4, remove ANM AZ E6 Tuba City, AZ [NEW], and insert AWP AZ E6 Tuba City, AZ [Corrected].

Issued in Seattle, Washington, on July 29, 2013.
Christopher Ramirez,
Manager, Operations Support Group, Western Service Center.

[FR Doc. 2013-18869 Filed 8-7-13; 8:45 am]

BILLING CODE 4910-13-P